DEPARTMENT OF TRANSPORTATION

Federal Highway Administration

Notice of Final Federal Agency Actions on Proposed Highway in California

AGENCY: Federal Highway Administration (FHWA), Department of Transportation (DOT).

ACTION: Notice of limitation on claims for judicial review of actions by the California department of transportation (Caltrans).

SUMMARY: The FHWA, on behalf of Caltrans, is issuing this notice to announce actions taken by Caltrans that are final. The actions relate to a proposed highway project, the Interstate 680 (I-680) Express Lanes from State Route 84 (SR 84) to Alcosta Boulevard Project in the Cities of Sunol, Pleasanton, Dublin, and San Ramon, in the Counties of Alameda and Contra Costa, State of California. Those actions grant licenses, permits, and approvals for the project.

DATES: By this notice, the FHWA, on behalf of Caltrans, is advising the public of final agency actions subject to 23 U.S.C. 139(l)(1). A claim seeking judicial review of the Federal agency actions on the highway project will be barred unless the claim is filed on or before May 24, 2021. If the Federal law that authorizes judicial review of a claim provides a time period of less than 150 days for filing such claim, then that shorter time period still applies.

FOR FURTHER INFORMATION CONTACT: For Caltrans: Brian Gassner, Environmental Branch Chief, 111 Grand Avenue MS 8B, Oakland, CA 94612, at (510) 506-0372 or email brian.gassner@dot.ca.gov. For FHWA: David Tedrick at (916) 498-5024 or email david.tedrick@dot.gov.

SUPPLEMENTARY INFORMATION: Effective July 1, 2007, the FHWA assigned, and the Caltrans assumed, environmental responsibilities for this project pursuant to 23 U.S.C. 327. Notice is hereby given that the Caltrans has taken final agency actions subject to 23 U.S.C. 139(l)(1) by issuing licenses, permits, and approvals for the following highway project in the State of California: The project would construct High Occupancy Vehicle/express lanes (HOV/express lanes) on northbound and southbound I-680 from SR 84 (Vallecitos Road) in Alameda County to north of Alcosta Boulevard in Contra Costa County. The proposed project extends for approximately 9 miles along I-680 from post mile (PM) R10.6 to R21.9 in Alameda County and from PM R0.0 to R1.1 in Contra Costa County. The actions by the Federal agencies, and the laws under which such actions were taken, are described in the Environmental Assessment (EA) and Finding of No Significant Impact (FONSI) for the project, approved on November 9, 2020, and in other documents in the FHWA project records. The EA, FONSI, and other project records are available by contacting Caltrans at the addresses provided above. The Caltrans EA and FONSI can be viewed and downloaded from the project website at https://dot.ca.gov/caltrans-near-me/district-4/d4-popular-links/d4-environmental-docs and www.alamedactc.org/680gapclosure.

This notice applies to all Federal agency decisions as of the issuance date of this notice and all laws under which such actions were taken, including but not limited to:

1. National Environmental Policy Act (NEPA)

2. Fixing America's Surface Transportation Act (Fast Act)

3. Clean Air Act

4. Federal-Aid Highway Act

5. Clean Water Act

6. Historic Sites Act

7. Section 106 of the National Historic Preservation Act

8. Archeological Resources Protection Act

9. Archeological and Historic Preservation Act

10. Antiquities Act

11. Endangered Species Act

12. Migratory Bird Treaty Act

13. Fish and Wildlife Coordination Act

14. Magnuson-Stevens Fishery Conservation and Management Act

15. Section 4(f) of the Department of Transportation Act

16. Civil Rights Act, Title VI

17. Uniform Relocation Assistance and Real Property Acquisition Policies Act

18. Rehabilitation Act

19. Americans with Disabilities Act

20. Comprehensive Environmental Response, Compensation, and Liability Act (CERCLA)

21. Resource Conservation and Recovery Act (RCRA)

22. Safe Drinking Water Act

23. Occupational Safety and Health Act

24. Atomic Energy Act

25. Toxic Substances Control Act

26. Federal Insecticide, Fungicide and Rodenticide Act

27. E.O. 11990 Protection of Wetlands; E.O. 11988 Floodplain Management

28. E.O. 12898, Federal Actions to Address Environmental Justice in Minority Populations and Low Income Populations

29. E.O. 12088, Federal Compliance with Pollution Control Standards

(Catalog of Federal Domestic Assistance Program Number 20.205, Highway Planning and Construction. The regulations implementing Executive Order 12372 regarding intergovernmental consultation on Federal programs and activities apply to this program.)

Authority: 23 U.S.C. 139(l)(1).

Issued on: December 17, 2020.
Rodney Whitfield,
Director, Financial Services, Federal Highway Administration, California Division.

[FR Doc. 2020-28433 Filed 12-22-20; 8:45 am]

BILLING CODE 4910-RY-P